FEDERAL COMMUNICATIONS COMMISSION

Privacy Act System of Records

AGENCY: Federal Communications Commission (FCC, Commission, or the Agency).

ACTION: Notice; one altered Privacy Act system of records; eight new routine uses.

SUMMARY: Pursuant to subsection (e)(4) of the Privacy Act of 1974, as amended (“Privacy Act”), 5 U.S.C. 552a, the FCC proposes to change the name and alter one system of records, FCC/OMD-7, “FCC Transit Benefit and Parking Permit Programs” (formerly FCC/OMD-7, “FCC Employee Transit Benefit and Parking Permit Programs”). The FCC will alter the security classification; the system location; the categories of individuals; the categories of records; the authority for maintenance of the system; the purposes for which the information is maintained; five routine uses (1), (2), (4), (5), and (6) (and add eight new routine uses (8-15); the policies and practices for the storage, retrivability, accessibility, safeguards, and retention and disposal of the records in the system; the system manager(s) and address; the notification, record access, and contesting record procedures; the record source categories; and make other administrative edits and revisions as necessary to update the information and comply with the requirements of the Privacy Act of 1974, as amended (5 U.S.C. 552a), and the regulations and requirements of the Office of Management and Budget (OMB) and the National Archives and Records Administration (NARA).

DATES: In accordance with subsections (e)(4) and (e)(11) of the Privacy Act, any interested person may submit written comments concerning the alteration of this system of records on or before April 25, 2016. The Office of Information and Regulatory Affairs (OIRA), Office of Management and Budget (OMB), which has oversight responsibility under the Privacy Act to review the system of records, and Congress may submit comments on or before May 4, 2016. The proposed new system of records will become effective on May 4, 2016 unless the FCC receives comments that require a contrary determination. The Commission will publish a document in the Federal Register notifying the public if any changes are necessary. As required by 5 U.S.C. 552a(r) of the Privacy Act, the FCC is submitting reports on this proposed altered system to OMB and Congress.

ADDRESSES: Address comments to Leslie F. Smith, Privacy Manager, Information Technology (IT), Room 1-C216, Federal Communications Commission (FCC), 445 12th Street SW., Washington, DC 20554, (202) 418-0217, or via the Internet at Leslie.Smith@fcc.gov.

FOR FURTHER INFORMATION CONTACT: Contact Leslie F. Smith, Privacy Manager, Information Technology (IT), 1-C216, Federal Communications Commission, 445 12th Street SW., Washington, DC 20554, (202) 418-0217 or via the Internet at Leslie.Smith@fcc.gov.

SUPPLEMENTARY INFORMATION: As required by the Privacy Act of 1974, as amended, 5 U.S.C. 552a(e)(4) and (e)(11), this document sets forth notice of the alteration of one system of records maintained by the FCC, the revision of six routine uses: (1), (2), (4), (5), and (6), and the addition of eight new routine uses ((8)-(15)). The FCC previously gave complete notice of the system of records (FCC/OMD-7, “FCC Employee Transit Benefit and Parking Permit Programs”) covered under this Notice by publication in the Federal Register on April 5, 2006 (71 FR 17234, 17252). This notice is a summary of the more detailed information about the proposed altered system of records, which may be obtained or viewed pursuant to the contact and location information given above in the ADDRESSES section. The purposes for altering FCC/OMD-7, “FCC Transit Benefit and Parking Permit Programs” (formerly FCC/OMD-7, “FCC Employee Transit Benefit and Parking Programs”) are to revise: The system name to reflect the expansion of the categories of individuals who are covered by this system; the security classification; the system location; the categories of individuals; the categories of records; the authority for maintenance of the system; the purposes for which the information is maintained; routine uses (1), (2), (4), (5), and (6), and add eight new routine uses ((8)-(15)); the policies and practices for the storage, retrievability, accessibility, safeguards, and retention and disposal of the records in the system; the system manager(s) and address; the notification, record access, and contesting record procedures; the record source categories; and make other administrative edits and revisions as necessary to update the information and comply with the requirements of the Privacy Act, as amended (5 U.S.C. 552a), and the regulations and requirements of OMD and NARA.

The FCC will achieve these purposes by altering this system of records with these changes:

Revision of language regarding the Security Classification, for clarity and to note that the FCC has in place a process to provide an appropriate security classification for this system, such that: The FCC's CIO team will provide a security classification to this system based on NIST FIPS-199 standards.

Revision of the language regarding the System Location, to note the changes to the system's address: Administrative Services Center (ASC), Office of the Managing Director (OMD), Federal Communications Commission (FCC), 445 12th Street SW., Washington, DC 20554. Information related to those employees who participate in the Smartrip portion of the benefits program is also stored in a database administered by the Washington Metropolitan Area Transit Authority (WMATA), headquartered at 600 Fifth Street NW., Washington, DC 20001.

Revision of the language regarding the Categories of Individuals Covered by the System, for clarity and to note the expansion of the categories of individuals covered by this system to include FCC employees and their spouses, paid interns/co-op students, FCC contractors, and non-FCC Federal employees, such that: The categories of individuals in this system include those individuals who voluntarily apply for and/or participate in one of the FCC Transit Benefit and Parking Permit Programs, which include, but are not limited to:

1. FCC employees who have applied for and received monthly transit fare subsidies;

2. FCC employees and contractors who hold monthly FCC garage parking permits;

3. FCC employees, employee spouses, paid interns and co-op students, contractors, and non-FCC Federal agency employees who are members of carpools and vanpools that park in the FCC parking garage;

4. FCC employees who have applied for and received handicap status for FCC garage parking assignments as a “reasonable accommodation”; and

5. FCC employees who participate in ridesharing, including the Capital Bikeshare Program.

Revision of the language in the Categories of Records in the System, for clarity and to note the expansion in and various changes made to the categories of records covered by this system, including the list of FCC forms and the information requested in each form, as follows:

The FCC uses the records in this system to administer the Transit Benefit and Parking Permit Programs. These records include, but are not limited to, the information that is required to be submitted on the following forms and any related documentation that pertains to transit benefit subsidies, parking permits, ride-sharing, bike-sharing, and other, related transit and commuting programs available to FCC employees, contractors, and other individuals, which are sponsored and/or hosted by the FCC:

1. Form A-27, “FCC Pre-Tax Parking Benefit Form,” including, but not limited to: Employee Information: FCC employee's name; effective date; pay period; parking location; and monthly/daily fee; Benefit: Carpool/vanpool), metro parking, commercial lot, privately-owned lot, parking garage, or parking meter; and requested amount; whether the application is new, a cancellation, or a change; and effective date; and Certification: Employee signature; date; and attachments;

2. Form A-30, “FCC Parking Application,” including, but not limited to: Applicant's name, FCC bureau/office/division; address (required for carpool); FCC badge number; FCC telephone number; FCC employee/contractor/paid intern/co-op student; vehicle year, make, model, state, and license plate; handicap perm (yes/no); FCC title (executives only); transit benefit participant (yes/no); van pool/car pool riders (FCC and Non-FCC employees): Name, address, bureau/office or agency, telephone number, FCC ID number, and signature; applicant's signature and date; and attachments, e.g,, handicap certification, etc.;

3. Form A-75, “FCC Headquarters Employee Transit Benefit Application,” including, but not limited to:

A. Applicant Information: Applicant's name, home address, bureau/office, office room number, telephone number, FCC badge number, and WMATA Smartrip Card serial number;

B. Employment Status: Full time, part time, paid intern/co-op student; and bargaining/non-bargaining unit status;

C. Mode(s) of Transportation (costs): Metro (rail only) and station name; metro (rail and bus) and station name; Metro (bus only); one-way transit user; commuter bus; commuter rail; and/or vanpool;

D. Telework: Approved telework agreement (yes/no); and telework days (Monday-Friday);

E. Employee certification: Employee signature and date; and

F. Transit benefit office action: Approved (yes and amount/no), disapproved (reason), signature and data; and attachments;

4. Form A-75-A, “FCC Employee Transit Benefit Change Request Form,” including, but not limited to:

A. Applicant Information: Applicant's name, home address, bureau/office, office room number, office telephone number, and FCC badge number;

B. Employment Status: Full time, part time, paid intern, or co-op student;

C. Change(s) Requested:

1. Mode(s) of transportation: Metro rail, metro bus, commuter rail, commuter bus, one-way transit user, vanpool, other, and transit provider name;

2. Monthly commuting cost: Old and new;

3. Badge number: Old and new;

4. Address change: Home address;

5. Name change: From/to; and

6. Smartrip Card serial number: Old and new; and

D. Employee Certification: Signature; date; and attachments.

Revision to the Authority for Maintenance of the System, to add several rule sections and delete several rule sections so that the statutory authorities more closely align with the system's current requirements, such that the authorities now include, as follows:

5 U.S.C. 301; 5 U.S.C. 5701-5733; 5 U.S.C. 7905; 26 U.S.C. 132(f); 40 U.S.C. 101 and 121; 44 U.S.C. 2104; 41 CFR 101-20.104-2, 102-74.205-210 (Ridesharing), and 102-74.265-310 (Parking Facilities); Executive Order 9397, as amended by Executive Order 13478; Executive Order 13150; Pub. L. 103-172; and the Federal Property and Administrative Services Act of 1949, as amended.

Revision of the language regarding the Purposes for which the information in this system is maintained, for clarity, and to expand the system's purposes, to include cross-checking information and matching activity to eliminate fraud and a security check on participants to safeguard against possible criminal or terrorist activity, as follows:

The FCC will use information in this system, including the PII, to administer the Transit Benefit and Parking Permit Programs. This information enables the FCC to facilitate the timely processing of requests for parking permits, transit benefit subsidies, ride-sharing and bike-sharing programs and similar commuting arrangements, and other, related program, policies, and activities, which include, but are not limited to:

1. Managing the FCC's transit benefits program that provides transportation subsidies for public transit, including but not limited to WMATA Metro train and bus fares; Commuter rail services—Maryland Area Rail Commuters (MARC) and Virginia Railway Express (VRE) fares; Commuter bus services—DASH fares, etc.; One-way transit users; Vanpool fares; and other parking and transit subsidies to Federal employees as allowed under 5 U.S.C. 7905, 5 U.S.C. 301, and Executive Order 13150 employee's request to participate in the transit subsidy or FCC garage parking program;

2. Managing the FCC's employee parking, executive parking, handicapped parking, and ridesharing programs (vanpools/carpools) for FCC employees, contractors, and non-FCC agency employees;

3. Conducting audits, reviews, oversight, and/or investigations of the transit benefits, parking, ridesharing programs (vanpools and carpools) to ensure their accuracy and integrity of the Transit Benefits and Parking Program, which includes but is not limited to cross-checking the Commission's data on parking assignees and transit benefit recipients to ensure that they are not participating in both programs, unless authorized; and, when appropriate, matching this information with the lists of other Federal agencies to ensure that the Commission's participants are not registered for a drive-alone, carpool, or other parking assignments with any other Federal agency, and to identify and locate former employees;

4. Administering, qualifying, and/or certifying the beneficiaries of the Transit Benefits and Parking Program, which includes but is not limited to ensure the eligibility of transit subsidy participants and to prevent misuse of the funds involved;

5. Preparing and administering listings and reports for use by the FCC and the other Federal, state, and local agencies charged with management and oversight of and/or contribution to the Transit Benefits and Parking Program subsidies, etc.; and

6. Ensuring that those non-FCC individuals who are participating in the ride-sharing and bike-sharing programs do not pose a security threat to FCC Headquarter garage facilities.

Revision of the language in Routine Use (1) “Financial Obligations as required by the National Finance Center et al.” to add “pre-tax benefit(s)” as another category of information concerning a record from this system that may be disclosed:

When the National Finance Center (the FCC's designated payroll office), the Department of the Treasury Debt Management Services, and/or a current employer to effect a salary, IRS tax refund, pre-tax benefit(s), or administrative offset to satisfy an indebtedness; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988, as appropriate, have been taken;

Revision of the language in Routine Use (2) “Program Partner” to expand the categories of transit information to include other applicable public transportations (in addition to WMATA), to note that these benefits are for FCC employees, and that the benefits relate to public transportation fare (e.g., Smartrip program) as these relate to records from this system that may be disclosed:

To WMATA and other applicable public transportations in connection with FCC employees participating in this public transportation fare, e.g., Smartrip program at: http://www.wmata.com/riding/smartrip.cfm;

Routine Use (3) “Adjudication and Litigation” is unchanged.

Revision of the language in Routine Use (4) “Law Enforcement and Investigation” to expand the categories to include government agencies and officials, the purposes that include but are not limited to sharing records in this system, and the reasons for disclosure, and to note that records may be referred for investigation, enforcement, or prosecution by the Commission (or another agency), regarding why a record from this system that may be disclosed:

Where there is a real or suspected indication of a violation or potential violation of a statute, regulation, rule, or order, records from this system may be shared with appropriate Federal, State, and/or local agencies, authorities, and officials for purposes that include but are not limited to obtaining additional information relevant to a FCC decision, referring the record for investigation, enforcement, or prosecution by the Commission or another agency;

Revision of the language in Routine Use (5) “Congressional Investigations and Inquiries” to change the title of the routine use and expand the categories of information to include investigations and inquiries, regarding a record from this system that may be disclosed:

To Congress, or, to the extent of matter within its jurisdiction, any committee or subcommittee thereof, for the purposes of an official Congressional investigation, including but not limited to, a request by a Congressional office in response to an inquiry made by an individual to the Congressional office for the individual's own records;

Revision of the language in Routine Use (6) “Government-wide Program Management and Oversight” to expand the number of Federal agencies and categories of information concerning a record from this system that may be disclosed, as follows:

To the General Services Administration (GSA), the National Archives and Records Administration (NARA), the Office of Personnel Management (OPM), and/or the Government Accountability Office (GAO) for the purpose of records management studies conducted under authority of 44 U.S.C. 2904 and 2906; to the Department of Justice (DOJ) in order to obtain that department's advice regarding disclosure obligations under the Freedom of Information Act (FOIA); or to the Office of Management and Budget (OMB) in order to obtain that office's advice regarding obligations under the Privacy Act. Such a disclosure shall not be used to make a determination about individuals;

Routine Use (7) “Labor Relations” is unchanged.

Addition of Routine Use (8) “Breach Notification,” as follows:

A record from this system may be disclosed to appropriate agencies, entities, and persons when: (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm;

Addition of Routine Use (9) “Vanpool, Carpool, and Ridesharing,” as follows:

Vanpool, Carpool, and Ridesharing—Vanpool, carpool, and rideshare information, i.e., names and residential information (home address and personal home and cell phone number(s)) of FCC and non-FCC Federal employees and FCC contractors in the ridesharing database, who wish to participate in in a vanpool, carpool, and/or other ridesharing arrangements for daily commuting to the FCC Headquarters. This information is provided to the ridesharing coordinator for the purposes of scheduling ride-sharing arrangements;

Addition of Routine Use (10) “Statistical Reports on Commuting,” as follows:

Statistical Reports on Commuting—To Federal, state, local, and related organizations, Metropolitan Washington Council of Governments, that are studying local traffic commuting patterns (i.e., compiling commuting statistics and reports) by those who use metrorail (WMATA), commuter bus, commuter rail (e.g., VRS and MARC), vanpools, carpools, and/or ridesharing in their commute to and from work;

Addition of Routine Use (11) “Department of Justice (DOJ),” as follows:

To DOJ or in a proceeding before a court or adjudicative body when:

(a) The United States, the Commission, a component of the Commission, or, when represented by the government, an employee of the Commission is a party to litigation or anticipated litigation or has an interest in such litigation, and

(b) The Commission determines that the disclosure is relevant or necessary to the litigation;

Addition of Routine Use (12) “Medical Certification,” as follows:

To a physician who is making a determination on a person's eligibility for a handicapped parking permit.

Addition of Routine Use (13) “Employment, Clearances, Licensing, Contract, Grant, or other Benefits Decisions by the Agency,” as follows:

To a Federal, State, local, foreign, tribal, or other public agency or authority maintaining civil, criminal, or other relevant enforcement records, or other pertinent records, or to another public authority or professional organization, if necessary to obtain information relevant to an investigation concerning the retention of an employee or other personnel action, the retention of a security clearance, the letting of a contract, or the issuance or retention of a grant or other benefit;

Addition of Routine Use (11) “Employment, Clearances, Licensing, Contract, Grant, or other Benefits Decisions by Other than the Agency,” as follows:

To a Federal, State, local, foreign, tribal, or other public agency or authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

Addition of Routine Use (15) “Parking Garage Contractors,” as follows:

To the owners, managers, and staff who manage the garage parking for their use in assigning or checking the parking permits, checking credentials, assigning spaces, assisting with accidents, or other parking issues to ensure that the parking program functions properly and that parking privileges are not abused.

In each of these cases, the FCC will determine whether disclosure of the records is compatible with the purpose(s) for which the records were collected.

Revision of the language in the policies and practices regarding Storage of the information in this system, for clarity, to specify that the information in this system includes both paper and electronic records, to describe the Administrative Services Center's (ASC) current storage procedures, and to note that:

Paper records, files, and documents, which pertain to the information concerning the transit benefits and parking program that are maintained at the FCC, are stored in file folders in the ASC office suite.

The electronic records, files, and data are housed in the FCC's computer network databases, which are reserved for the transit benefit and parking permit program, and in the WMATA database that is associated with the Smartrip program.

Revision of the language in the policies and practices regarding the Retrievability of the information in this system, for clarity, and to specify that both paper and electronic records are retrievable, as follows:

Both the paper documents and electronic records and data are retrieved by the employer's name, or by the FCC Badge identification number, tag, and/or parking permit number.

Revision of the language in the policies and practices regarding the Safeguards for protecting the information in this system, for clarity, and to comply with the FCC's current safety and security protocols and procedures, including information noting that these FCC standards adhere to the requirements of the National Institutes of Standards and Technology (NIST) and the Federal Information Security Management Act (FISMA), as follows:

The safeguards for the information pertaining to the transit benefit and parking permit programs, which is maintained by the FCC, are as follows:

1. The paper documents, files, and records are kept in a locked cash box contained in a (cylinder lock) drawer. At the close of the business day, the cash box is secured in a government issued safe with a combination lock. Only authorized ASC supervisors, staff, and contractors may have access to these file cabinets. The ASC office suite is protected by a card-coded main door to limit access to the suite.

2. The electronic records, files, and data that are stored in the FCC computer network databases are secured by limited access card readers. Access to the electronic files is restricted to authorized ASC supervisors, staff, and contractors, and to the Information Technology (IT) staff and contractors, who maintain the FCC's computer network. Other FCC employees and contractors may be granted access only on a “need-to-know” basis. The FCC's computer network databases are protected by the FCC's security protocols, which include controlled access, passwords, and other IT security features and requirements as required under the IT guidelines issued by the National Institutes of Standards and Technology (NIST) and the Federal Information Security Management Act (FISMA) regulations. A PRIVACY ACT WARNING NOTICE appears on the monitor screen when records containing information on individuals are first displayed. Information resident on the Transit Benefits and Parking Program database servers is backed-up routinely onto magnetic media. Back-up tapes are stored at secured locations.

3. Safeguards in place adhere to Federal standards, including the NIST, FISMA, and FCC standards.

Revision of the language in the policies and practices regarding the Retention and Disposal of the information in this system, for clarity, and to specify that they comply with the current NARA requirements for both paper and electronic records, as follows:

Records under the control of the FCC are retained for three years in accordance with the General Records Schedule 6 (GRS 6) established by NARA at http://www.archives.gov/records-mgmt/ardor/grs06.html. Paper records are then shredded. Electronic records are destroyed physically (electronic storage media) or by electronic erasure.

Revision of the language regarding the System Manager(s) and Address, for clarity, and to note the current address of the system managers where they may be contacted, as follows:

Administrative Services Center (ASC), Office of the Managing Director (OMD), Federal Communications Commission (FCC), 445 12th Street SW., Washington, DC 20554.

Revision of the language regarding the Notification, Record Access, and Contesting Procedures concerning information in this system, for clarity, and to comply with the Commission's current policies and practices for notifying individuals under the requirements of the Privacy Act, 5 U.S.C. 552a(d), as follows:

Notification Procedures: Privacy Manager, Federal Communications Commission (FCC), 445 12th Street SW., Room 1-A804, Washington, DC 20554; (202) 418-0217 or Leslie.Smith@fcc.gov.

Record Access Procedures: Privacy Manager, Federal Communications Commission (FCC), 445 12th Street SW., Room 1-A804, Washington, DC 20554; (202) 418-0217 or Leslie.Smith@fcc.gov.

Contesting Records Procedures: Privacy Manager, Federal Communications Commission (FCC), 445 12th Street SW., Room 1-A804, Washington, DC 20554; (202) 418-0217 or Leslie.Smith@fcc.gov.

Revision of the language in the Record Source Categories, for clarity, and to expand the sources of and details concerning the information in this system, as follows:

Information in the system is obtained from:

1. One or more FCC Forms, including, but not limited to FCC Forms A-27, A-30, A-75, and/or A-75-A, which are submitted by individuals who apply to participate in the FCC Transit Benefit and Parking Permit Programs, including but not limited to metrorail, bus, commuter rail, vanpools, carpools, and/or ridesharing arrangements.

2. WMATA and other agencies concerning individuals (including both FCC and non-FCC individuals) who have applied for and/or participate in the FCC's transit benefits program and/or the carpool/vanpool programs; and

3. Ride-Share Bike Program information.

This notice meets the requirement documenting the changes to the system of records that the FCC maintains, and provides the public, OMB, and Congress an opportunity to comment.

FCC/OMD-7

SYSTEM NAME:

FCC Transit Benefit and Parking Permit Programs.

SECURITY CLASSIFICATION:

The FCC's CIO team will provide a security classification to this system based on NIST FIPS-199 standards.

SYSTEM LOCATION:

Administrative Services Center (ASC), Office of the Managing Director (OMD), Federal Communications Commission (FCC), 445 12th Street SW., Washington, DC 20554.

Information related to those employees who participate in the Smartrip portion of the benefits program is also stored in a database administered by the Washington Metropolitan Area Transit Authority WMATA, headquartered at 600 Fifth Street NW., Washington, DC 20001.

CATEGORIES OF INDIVIDUALS COVERED BY THIS SYSTEM:

The categories of individuals in this system include those individuals who voluntarily apply for and/or participate in one of the FCC Transit Benefit and Parking Permit Programs, which include, but are not limited to:

1. FCC employees who have applied for and received monthly transit fare subsidies;

2. FCC employees and contractors who hold monthly FCC garage parking permits;

3. FCC employees, employee spouses, paid interns and co-op students, contractors, and non-FCC Federal agency employees who are members of carpools and vanpools that park in the FCC parking garage;

4. FCC employees who have applied for and received handicap status for FCC garage parking assignments as a “reasonable accommodation”; ¹ and

¹ FCC/OWD-1, “Reasonable Accommodation Requests under the Rehabilitation Act of 1973,” may also cover individuals who request a special parking arrangement as a “reasonable accommodation.”

5. FCC employees who participate in ridesharing, including the Capital Bikeshare Program.

CATEGORIES OF RECORDS IN THE SYSTEM:

The FCC uses the records in this system to administer the Transit Benefit and Parking Permit Programs. These records include, but are not limited to, the information that is required to be submitted on the following forms and any related documentation that pertains to transit benefit subsidies, parking permits, ride-sharing, bike-sharing, and other, related transit and commuting programs available to FCC employees, contractors, and other individuals, which are sponsored and/or hosted by the FCC:

1. Form A-27, “FCC Pre-Tax Parking Benefit Form,” including, but not limited to:

Employee Information: FCC employee's name; effective date; pay period; parking location; and monthly/daily fee; Benefit: carpool/vanpool), metro parking, commercial lot, privately-owned lot, parking garage, or parking meter; and requested amount; whether the application is new, a cancellation, or a change; and effective date; and Certification: employee signature; date; and attachments;

2. Form A-30, “FCC Parking Application,” including, but not limited to: Applicant's name, FCC bureau/office/division; address (required for carpool); FCC badge number; FCC telephone number; FCC employee/contractor/paid intern; vehicle year, make, model, state, and license plate; handicap perm (yes/no); FCC title (executives only); transit benefit participant (yes/no); van pool/car pool riders (FCC and Non-FCC employees): name, address, bureau/office or agency, telephone number, FCC ID number, and signature; applicant's signature and date; and attachments, e.g., handicap certification, etc.;

3. Form A-75, “FCC Headquarters Employee Transit Benefit Application,” including, but not limited to:

A. Applicant Information: applicant's name, home address, bureau/office, office room number, telephone number, FCC badge number, and WMATA Smartrip Card serial number;

B. Employment Status: full time, part time, paid intern/co-op student; and bargaining/non-bargaining unit status;

C. Mode(s) of Transportation (costs): metro (rail only) and station name; metro (rail and bus) and station name; metro (bus only); one-way transit user; commuter bus; commuter rail; and/or vanpool;

D. Telework: approved telework agreement (yes/no); and telework days (Monday-Friday);

E. Employee certification: employee signature and date; and

F. Transit benefit office action: approved (yes and amount/no), disapproved (reason), signature and data; and attachments;

4. Form A-75-A, “FCC Employee Transit Benefit Change Request Form,” including, but not limited to:

A. Applicant Information: applicant's name, home address, bureau/office, office room number, office telephone number, and FCC badge number;

B. Employment Status: full time, part time, paid intern, or co-op student;

C. Change(s) Requested:

1. Mode(s) of transportation: metro rail, metro bus, commuter rail, commuter bus, one-way transit user, vanpool, other, and transit provider name;

2. Monthly commuting cost: old and new;

3. Badge number: old and new;

4. Address change: home address;

5. Name change: from/to; and

6. Smartrip Card serial number: old and new; and

D. Employee Certification: signature; date; and attachments.

AUTHORITY FOR MAINTENANCE OF THE SYSTEM:

5 U.S.C. 301; 5 U.S.C. 5701-5733; 5 U.S.C. 7905; 26 U.S.C. 132(f); 40 U.S.C. 101 and 121; 44 U.S.C. 2104 41 CFR 101-20.104-2, 102-74.205-210 (Ridesharing), and 102-74.265-310 (Parking Facilities); Executive Order 9397, as amended by Executive Order 13478; Executive Order 13150; Pub. L. 103-172; and the Federal Property and Administrative Services Act of 1949, as amended.

PURPOSE(S):

The FCC will use information in this system, including the PII, to administer the Transit Benefit and Parking Permit Programs. This information enables the FCC to facilitate the timely processing of requests for parking permits, transit benefit subsidies, ride-sharing and bike-sharing programs and similar commuting arrangements, and other, related program, policies, and activities, which include, but are not limited to:

1. Managing the FCC's transit benefits program that provides transportation subsidies for public transit, including but not limited to, WMATA Metro train and bus fares; Commuter rail services—Maryland Area Rail Commuters MARC and Virginia Railway Express VRE fares; Commuter bus services—DASH fares, etc.; One-way transit users; Vanpool fares; and other parking and transit subsidies to Federal employees as allowed under 5 U.S.C. 7905, 5 U.S.C. 301, and Executive Order 13150 employee's request to participate in the transit subsidy or FCC garage parking program;

2. Managing the FCC's employee parking, executive parking, handicapped parking, and ridesharing programs (vanpools/carpools) for FCC employees, contractors, and non-FCC agency employees;

3. Conducting audits, reviews, oversight, and/or investigations of the transit benefits, parking, ridesharing programs (vanpools and carpools) to ensure their accuracy and integrity of the Transit Benefits and Parking Program, which includes but is not limited to cross-checking the Commission's data on parking assignees and transit benefit recipients to ensure that they are not participating in both programs, unless authorized; and, when appropriate, matching this information with the lists of other Federal agencies to ensure that the Commission's participants are not registered for a drive-alone, carpool, or other parking assignments with any other Federal agency, and to identify and locate former employees;

4. Administering, qualifying, and/or certifying the beneficiaries of the Transit Benefits and Parking Program, which includes but is not limited to ensure the eligibility of transit subsidy participants and to prevent misuse of the funds involved;

5. Preparing and administering listings and reports for use by the FCC and the other Federal, state, and local agencies charged with management and oversight of and/or contribution to the Transit Benefits and Parking Program subsidies, etc.; and

6. Ensuring that those non-FCC individuals who are participating in the ride-sharing and bike-sharing programs do not pose a security threat to FCC Headquarter garage facilities

ROUTINE USES OF RECORDS MAINTAINED IN THE SYSTEM, INCLUDING CATEGORIES OF USERS AND THE PURPOSES OF SUCH USES:

Information about individuals in this system of records may routinely be disclosed under the following conditions:

1. Financial Obligations as required by the National Finance Center et al.—When the National Finance Center (the FCC's designated payroll office), the Department of the Treasury Debt Management Services, and/or a current employer to effect a salary, IRS tax refund, pre-tax benefit(s), or administrative offset to satisfy an indebtedness; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988, as appropriate, have been taken;

2. Program Partner—To WMATA and other applicable public transportations in connection with FCC employees participating in this public transportation fare, e.g., Smartrip program at: http://www.wmata.com/riding/smartrip.cfm;

3. Adjudication and Litigation—Where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

4. Law Enforcement and Investigation—Where there is a real or suspected indication of a violation or potential violation of a statute, regulation, rule, or order, records from this system may be shared with appropriate Federal, State, and/or local agencies, authorities, and officials for purposes that include but are not limited to obtaining additional information relevant to a FCC decision, referring the record for investigation, enforcement, or prosecution by the Commission or another agency;

5. Congressional Investigations and Inquiries—To Congress, or, to the extent of matter within its jurisdiction, any committee or subcommittee thereof, for the purposes of an official Congressional investigation, including but not limited to, a request by a Congressional office in response to an inquiry made by an individual to the Congressional office for the individual's own records;

6. Government-wide Program Management and Oversight—To the General Services Administration (GSA), the National Archives and Records Administration (NARA), the Office of Personnel Management (OPM), and/or the Government Accountability Office (GAO) for the purpose of records management studies conducted under authority of 44 U.S.C. 2904 and 2906; to the Department of Justice (DOJ) in order to obtain that department's advice regarding disclosure obligations under the Freedom of Information Act (FOIA); or to the Office of Management and Budget (OMB) in order to obtain that office's advice regarding obligations under the Privacy Act. Such a disclosure shall not be used to make a determination about individuals;

7. Labor Relations—To officials of labor organizations recognized under 5 U.S.C. Chapter 71 upon receipt of a formal request and in accord with the conditions of 5 U.S.C. 7114 when relevant and necessary to their duties of exclusive representation concerning personnel policies, practices, and matters affecting working conditions;

8. Breach Notification-To appropriate agencies, entities, and persons when: (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm;

9. Vanpool, Carpool, and Ridesharing—Vanpool, carpool, and rideshare information, i.e., names and residential information (home address and personal home and cell phone number(s)) of FCC and non-FCC Federal employees and FCC contractors in the ridesharing database, who wish to participate in in a vanpool, carpool, and/or other ridesharing arrangements for daily commuting to the FCC Headquarters. This information is provided to the ridesharing coordinator for the purposes of scheduling ride-sharing arrangements;

10. Statistical Reports on Commuting—To Federal, state, local, and related organizations, Metropolitan Washington Council of Governments, that are studying local traffic commuting patterns (i.e., compiling commuting statistics and reports) by those who use metrorail (WMATA), commuter bus, commuter rail (e.g., VRS and MARC), vanpools, carpools, and/or ridesharing in their commute to and from work;

11. Department of Justice (DOJ)—To DOJ or in a proceeding before a court or adjudicative body when:

(a) The United States, the Commission, a component of the Commission, or, when represented by the government, an employee of the Commission is a party to litigation or anticipated litigation or has an interest in such litigation, and

(b) The Commission determines that the disclosure is relevant or necessary to the litigation; and

12. Medical Certification—To a physician who is making a determination on a person's eligibility for a handicapped parking permit;

13. Employment, Clearances, Licensing, Contract, Grant, or other Benefits Decisions by the Agency—To a Federal, State, local, foreign, tribal, or other public agency or authority maintaining civil, criminal, or other relevant enforcement records, or other pertinent records, or to another public authority or professional organization, if necessary to obtain information relevant to an investigation concerning the retention of an employee or other personnel action, the retention of a security clearance, the letting of a contract, or the issuance or retention of a grant or other benefit;

14. Employment, Clearances, Licensing, Contract, Grant, or other Benefits Decisions by Other than the Agency—To a Federal, State, local, foreign, tribal, or other public agency or authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

15. Parking Garage Contractors—To the owners, managers, and staff who manage the garage parking for their use in assigning or checking the parking permits, checking credentials, assigning spaces, assisting with accidents, or other parking issues to ensure that the parking program functions properly and that parking privileges are not abused.

In each of these cases, the FCC will determine whether disclosure of the records is compatible with the purpose(s) for which the records were collected.

DISCLOSURE TO CONSUMER REPORTING AGENCIES:

None.

POLICIES AND PRACTICES FOR STORING, RETRIEVING, ACCESSING, RETAINING, AND DISPOSING OF RECORDS IN THE SYSTEM:

STORAGE:

Paper records, files, and documents, which pertain to the information concerning the transit benefits and parking program that are maintained at the FCC, are stored in file folders in the ASC office suite.

The electronic records, files, and data are housed in the FCC's computer network databases, which are reserved for the transit benefit and parking permit program, and in the WMATA database that is associated with the Smartrip program.

RETRIEVABILITY:

Both the paper documents and the electronic records and data are retrieved by the employee's name, or by the FCC Badge identification number, tag, and/or permit number.

SAFEGUARDS:

The safeguards for the information pertaining to the transit benefit and parking permit program, which is maintained by the FCC, are as follows:

1. The paper documents, files, and records are kept in a locked cash box contained in a (cylinder lock) drawer. At the close of the business day, the cash box is secured in a government issued safe with a combination lock. Only authorized ASC supervisors, staff, and contractors may have access to these file cabinets. The ASC office suite is protected by a card-coded main door to limit access to the suite.

2. The electronic records, files, and data that are stored in the FCC computer network databases are secured by limited access card readers. Access to the electronic files is restricted to authorized ASC supervisors, staff, and contractors, and to the Information Technology (IT) staff and contractors, who maintain the FCC's computer network. Other FCC employees and contractors may be granted access only on a “need-to-know” basis. The FCC's computer network databases are protected by the FCC's security protocols, which include controlled access, passwords, and other IT security features and requirements as required under the IT guidelines issued by the National Institutes of Standards and Technology (NIST) and the Federal Information Security Management Act (FISMA) regulations. A PRIVACY ACT WARNING NOTICE appears on the monitor screen when records containing information on individuals are first displayed. Information resident on the Transit Benefits and Parking Program database servers is backed-up routinely onto magnetic media. Back-up tapes are stored at secured locations.

3. Safeguards in place adhere to Federal standards, including the NIST, FISMA, and FCC standards.

RETENTION AND DISPOSAL:

Records under the control of the FCC are retained for three years in accordance with the General Records Schedule 6 (GRS 6) established by NARA at http://www.archives.gov/records-mgmt/ardor/grs06.html. Paper records are then shredded. Electronic records are destroyed physically (electronic storage media) or by electronic erasure.

SYSTEM MANAGER(S) AND ADDRESS:

Administrative Services Center (ASC), Office of the Managing Director (OMD), Federal Communications Commission (FCC), 445 12th Street SW., Washington, DC 20554.

NOTIFICATION PROCEDURE:

Privacy Manager, Federal Communications Commission (FCC), 445 12th Street SW., Room 1-A804, Washington, DC 20554.

RECORD ACCESS PROCEDURES:

Privacy Manager, Federal Communications Commission (FCC), 445 12th Street SW., Room 1-A804, Washington, DC 20554.

CONTESTING RECORD PROCEDURES:

Privacy Manager, Federal Communications Commission (FCC), 445 12th Street SW., Room 1-A804, Washington, DC 20554.

RECORD SOURCE CATEGORIES:

Information in the system is obtained from:

1. One or more FCC Forms, including but not limited to FCC Forms A-27, A-30, A-75, and/or A-75-A, which are submitted by individuals who apply to participate in the FCC Transit Benefit and Parking Permit Programs, including but not limited to metrorail, bus, commuter rail, vanpools, carpools, and/or ridesharing arrangements.

2. WMATA and other agencies concerning individuals (including both FCC and non-FCC individuals) who have applied for and/or participate in the FCC's transit benefits program and/or the carpool/vanpool programs; and

3. Ride-Share Bike Program information.

EXEMPTIONS CLAIMED FOR THE SYSTEM:

None.

Federal Communications Commission.
Gloria J. Miles,
Federal Register Liaison Officer, Office of the Secretary.

[FR Doc. 2016-06815 Filed 3-24-16; 8:45 am]

BILLING CODE 6712-01-P